SURFACE TRANSPORTATION BOARD

[Docket No. AB 768X]

Mohawk, Adirondack & Northern Railroad Corporation—Abandonment Exemption—in Lewis and Jefferson Counties, N.Y.

Mohawk, Adirondack & Northern Railroad Corporation (MAN), has filed a verified notice of exemption under 49 CFR part 1152 subpart F—Exempt Abandonments to abandon (1) an approximately 16-mile rail line that runs between milepost 58.1 and milepost 74.0 located between the Village of Lowville, N.Y., and the Village of Carthage, N.Y.; and (2) 0.5 miles of an unused spur track and 300 feet of terminal end of main line all within the Village of Lyons Falls, N.Y.¹ The lines traverse U.S. Postal Service Zip Codes 13367, 13368 and 13619.

¹ By decision served on January 22, 2024, the Board held this proceeding in abeyance and directed MAN to update its Environmental and Historic Report (E&H Report), serve that updated report on the parties required to receive it, and allow 20 days for responses. Mohawk, Adirondack & N. R.R.—Aban. Exemption—in Lewis & Jefferson Cntys., N.Y., AB 768X et al., slip op. at 3-4, 8 (STB served Jan. 22, 2024). By a separate decision served concurrently with this notice, the Board finds that MAN has complied with the Board's directive and therefore removes this proceeding from abeyance.

MAN has certified that: (1) no local freight traffic has moved over the Line during the past two years; (2) any overhead traffic can be rerouted over other lines; (3) no formal complaint filed by a user of rail service on the Line (or by a state or local government on behalf of such user) regarding cessation of service over the Line is pending with either the Surface Transportation Board (Board) or any U.S. District Court or has been decided in favor of a complainant within the two-year period; and (4) the requirements at 49 CFR 1105.7(b) and 1105.8(c) (notice of environmental and historic reports),² 49 CFR 1105.12 (newspaper publication), and 49 CFR 1152.50(d)(1) (notice to government agencies) have been met.

² On April 5, 2024, MAN submitted a verified supplement and amendment to its verified notice of exemption, which included a revised E&H Report. On May 12, 2024, MAN submitted additional revisions to its E&H Report.

As a condition to this exemption, any employee adversely affected by the abandonment shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) has been received,³ this exemption will be effective on February 13, 2025, unless stayed pending reconsideration.⁴ Petitions to stay that do not involve environmental issues,⁵ formal expressions of intent to file an OFA under 49 CFR 1152.27(c)(2), and interim trail use/railbanking requests under 49 CFR 1152.29 must be filed by January 24, 2025.⁶ Petitions to reopen and requests for public use conditions under 49 CFR 1152.28 must be filed February 3, 2025.

³ Persons interested in submitting an OFA must first file a formal expression of intent to file an offer, indicating the type of financial assistance they wish to provide (i.e., subsidy or purchase) and demonstrating that they are preliminarily financially responsible. See 49 CFR 1152.27(c)(2)(i).

⁴ The Board received numerous comments in this docket from parties opposing the abandonment. In the decision served concurrently with this notice, the Board considers these comments as petitions to reject the verified notice and denies the petitions.

⁵ The Board will grant a stay if an informed decision on environmental issues (whether raised by a party or by the Board's Office of Environmental Analysis (OEA) in its independent investigation) cannot be made before the exemption's effective date. See Exemption of Out-of-Serv. Rail Lines, 5 I.C.C.2d 377 (1989). Any request for a stay should be filed as soon as possible so that the Board may take appropriate action before the exemption's effective date.

⁶ Filing fees for OFAs and trail use requests can be found at 49 CFR 1002.2(f)(25) and (27), respectively.

All pleadings, referring to Docket No. AB 768X, must be filed with the Surface Transportation Board either via e-filing on the Board's website or in writing addressed to 395 E Street SW, Washington, DC 20423-0001. In addition, a copy of each pleading must be served on MAN's representative, John K. Fiorilla, Dyer & Peterson PC, 605 Main Street, Suite 104, Riverton, NJ 08077-1440.

If the verified notice contains false or misleading information, the exemption is void ab initio.

MAN has filed a combined environmental and historic report that addresses the potential effects, if any, of the abandonment on the environment and historic resources. OEA will issue a Draft Environmental Assessment (Draft EA) by January 17, 2025. The Draft EA will be available to interested persons on the Board's website, by writing to OEA, or by calling OEA at (202) 245-0294. If you require an accommodation under the Americans with Disabilities Act, please call (202) 245-0245. Comments on environmental or historic preservation matters must be filed within 15 days after the Draft EA becomes available to the public.

Environmental, historic preservation, public use, or trail use/railbanking conditions will be imposed, where appropriate, in a subsequent decision.

Pursuant to the provisions of 49 CFR 1152.29(e)(2), MAN shall file a notice of consummation with the Board to signify that it has exercised the authority granted and fully abandoned the Line. If consummation has not been effected by MAN's filing of a notice of consummation by January 14, 2026, and there are no legal or regulatory barriers to consummation, the authority to abandon will automatically expire.

Board decisions and notices are available at www.stb.gov.

Decided: January 8, 2025.
By the Board, Valerie O. Quinn, Acting Director, Office of Proceedings.
Jeffrey Herzig,
Clearance Clerk.

[FR Doc. 2025-00627 Filed 1-13-25; 8:45 am]

BILLING CODE 4915-01-P